DEPARTMENT OF COMMERCE

National Oceanic and Atmospheric Administration

RIN 0648-XH83

Endangered Species; File No. 1576

AGENCY: National Marine Fisheries Service (NMFS), National Oceanic and Atmospheric Administration (NOAA), Commerce.

ACTION: Notice; issuance of permit modification.

SUMMARY: Notice is hereby given that NMFS, Northeast Fisheries Science Center (NEFSC), 166 Water Street, Woods Hole, MA 02543-1026, has been issued a modification to scientific research Permit No. 1576.

ADDRESSES: The modification and related documents are available for review upon written request or by appointment in the following office(s):

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394.

FOR FURTHER INFORMATION CONTACT: Patrick Opay or Amy Hapeman, (301)713-2289.

SUPPLEMENTARY INFORMATION: On September 17, 2007, notice was published in the Federal Register (72 FR 52860) that an modification of Permit No. 1576, issued November 8, 2006 (71 FR 65471), had been requested by the above-named organization. The requested modification has been granted under the authority of the Endangered Species Act of 1973, as amended (ESA; 16 U.S.C. 1531 et seq.) and the regulations governing the taking, importing, and exporting of endangered and threatened species (50 CFR 222-226).

The permit authorizes researchers to capture, hold, transport, measure, weigh, flipper and passive integrated transponder tag, satellite tag, collect tissue biopsy, photograph, salvage and necropsy up to 50 loggerhead (Caretta caretta) and 50 Kemp's ridley (Lepidochelys kempii) sea turtles annually through October 31, 2011. Researchers are authorized up to one accidental mortality of each species annually. Research will take place in the Atlantic Ocean off the coast of the eastern United States. The main purpose of the research is to use satellite-linked tags to obtain high-resolution information on the depth, temperature, and movement of these sea turtle species in areas coincident with Northeast fisheries.

Issuance of this modification, as required by the ESA was based on a finding that such permit (1) was applied for in good faith, (2) will not operate to the disadvantage of such endangered or threatened species, and (3) is consistent with the purposes and policies set forth in section 2 of the ESA.

Dated: May 14, 2008.
P. Michael Payne,
Chief, Permits, Conservation and Education Division, Office of Protected Resources, National Marine Fisheries Service.

[FR Doc. E8-11388 Filed 5-21-08; 8:45 am]

BILLING CODE 3510-22-S